DEPARTMENT OF ENERGY

Federal Energy Regulatory Commission

[Docket Nos. ER97-1523-046 and ER01-512-001]

Central Hudson Gas & Electric Corporation, Consolidated Edison Company of New York, Inc., Long Island Lighting Company, New York State Electric & Gas Corporation, et al., Niagara Mohawk Power Corporation, Orange and Rockland Utilities, Inc., Rochester Gas and Electric Corporation; Notice of Filing

December 21, 2000.

Take notice that on December 15, 2000, the Members of the Transmission Owners Committee of the Energy Association of New York State, formerly known as the Members Systems of the New York Power Pool (Member Systems), tendered for filing four additional documents to a revised transmission service agreement submitted on November 27, 2000. The Member Systems state that these tariff sheets are in compliance with the Commission's October 26, 2000 order in this proceeding. Central Hudson Gas & Electric Corp., et al., 93 FERC ¶ 61,091 (2000).

A copy of the filing was served upon all persons on the official service list in the captioned proceedings.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before January 5, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments and protests may be filed electronically via the internet in lieu of paper. See, 18 CFR 385.2001(a)(1)(iii) and the instructions on the Commission's web site at ­http://www.ferc.fed.us/efi/doorbell.htm.

Linwood A. Watson, Jr.,
Acting Secretary.

[FR Doc. 00-33327 Filed 12-28-00; 8:45 am]

BILLING CODE 6717-01-M